DEPARTMENT OF COMMERCE

National Oceanic and Atmospheric Administration

Agency Information Collection Activities; Submission to the Office of Management and Budget (OMB) for Review and Approval; Comment Request; Deep Seabed Mining Exploration Licenses

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 23, 2021, (86 FR 21706) during a 60-day comment period. This notice allows for an additional 30 days for public comments.

Agency: National Oceanic and Atmospheric Administration, Commerce.

Title: Deep Seabed Mining Exploration Licenses.

OMB Control Number: 0648-0145.

Form Number(s): None.

Type of Request: Regular submission (extension of a currently approved collection).

Number of Respondents: 1.

Average Hours per Response: Annual report: 40 hours; extension request: 20 hours (annualized).

Total Annual Burden Hours: The annual total time for license holders to prepare paperwork related to meeting the requirements of DSHMRA is 60 hours (40 hours per annual report and 20 hours (on an annualized basis) for extension requests).

Needs and Uses: This request is for the extension of the currently approved information collection. No changes have been made to the collection requirements. NOAA's regulations at 15 CFR 970 govern the issuing and monitoring of exploration and production licenses under the Deep Seabed Hard Mineral Resources Act. The NOAA Office for Coastal Management is responsible for approving and administering licenses. Any persons seeking a license must submit certain information that allows NOAA to ensure the applicant meets the standards of the Act. Licensees are required to conduct monitoring and make reports, and they may request revisions, transfers, or extensions of licenses. Information required for the issuance and extension of licenses is provided to fulfill statutory requirements to ensure that license applicants have identified areas of interest for deep seabed hard mineral exploration and production; developed plans for those activities; have the financial resources available to conduct proposed activity; and have considered the effects of the activity on the natural and human environment. This information is used to determine whether licenses should be granted or extended.

Exploration licenses and commercial recovery permits under the Deep Seabed Hard Mineral Resources Act are only for activities by U.S. citizens in international waters. No license or permit applications have been received since the early 1980s, and none are expected during this collection period. U.S. deep seabed exploration licenses and commercial recovery permits are not recognized by the International Seabed Authority and would not have security of tenure due to the lack of U.S. accession to the United Nations Convention on the Law of the Sea Treaty. Two exploration licenses issued in the early 1980s are held by Lockheed Martin Corporation. The licenses are subject to annual reporting requirements and extension requests every five years. No at-sea exploration is authorized under the licenses without further authorization from NOAA. Such activities are not expected during the reporting period for the same reason as above.

Affected Public: Large businesses.

Frequency: Report on activities pursuant to the exploration licenses due annually. Extension requests must be submitted every five years.

Respondent's Obligation: Required to maintain licenses.

Legal Authority: Deep Seabed Hard Mineral Resources Act (DSHMRA) (30 U.S.C. 1401-1473); 15 CFR part 970.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0145.

Sheleen Dumas,
Department PRA Clearance Officer, Office of the Chief Information Officer, Commerce Department.

[FR Doc. 2021-15707 Filed 7-22-21; 8:45 am]

BILLING CODE 3510-08-P